SECURITIES AND EXCHANGE COMMISSION

[File No. 500-1]

In the Matter of Global Development and Environmental Resources, Inc., Order of Suspension of Trading

August 23, 2005.

It appears to the Securities and Exchange Commission that there is a lack of current and accurate information concerning the securities of Global Development and Environmental Resources, Inc. (“Global Development”), a non-reporting issuer quoted on the Pink Sheets under the ticker symbol GDVE. Questions have been raised regarding the accuracy of information in company press releases and on the internet concerning Global Development's officers, operations and products.

The Commission is of the opinion that the public interest and the protection of investors require a suspension of trading in the securities of the above-listed company.

Therefore, it is ordered, pursuant to section 12(k) of the Securities Exchange Act of 1934, that trading in the above-listed company is suspended for the period from 9:30 a.m. EDT August 23, 2005 through 11:59 p.m. EDT, on September 6, 2005.

By the Commission.
Jonathan G. Katz,
Secretary.

[FR Doc. 05-17001 Filed 8-23-05; 12:05 pm]

BILLING CODE 8010-01-P